ENVIRONMENTAL PROTECTION AGENCY

[ORD-2005-0003, FRL-7937-9]

Agency Information Collection Activities: Proposed Collection; Comment Request; Market-Based Stormwater Management in the Shepherd Creek Watershed in Cincinnati, OH; EPA ICR Number 2178.01, OMB Control Number

AGENCY: Environmental Protection Agency.

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before September 12, 2005.

ADDRESSES: Submit your comments, referencing docket ID number ORD-2005-0003, to EPA online using EDOCKET (our preferred method), by e-mail to ord.docket@epa.gov, or by mail to: EPA Docket Center, Environmental Protection Agency, ORD Docket, 1200 Pennsylvania Ave., NW., Washington, DC 20460.

FOR FURTHER INFORMATION CONTACT: Hale W. Thurston, ORD, NRMRL, Mail Code 499, 26 W. Martin Luther King Jr. Drive, Cincinnati, OH, 45268; telephone number: 513.569.7627; fax number: 513.487.2511; e-mail address: thurston.hale@epa.gov.

SUPPLEMENTARY INFORMATION: EPA has established a public docket for this ICR under Docket ID number ORD-2005-0003, which is available for public viewing at the ORD Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the ORD Docket is (202) 566-0226. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are residents of Mount-Airy/Shepherd Creek area of Cincinnati, OH.

Title: Market-based Stormwater Management in the Shepherd Creek Watershed in Cincinnati, Ohio.

Abstract: The Sustainable Technology Division (STD) of the National Risk Management Research Laboratory (NRMRL) in the Office of Research and Development (ORD) of the U.S. Environmental Protection Agency (EPA) is proposing to conduct a survey of individual property owners in the Shepherd Creek watershed in Cincinnati, OH. The survey will elicit how residents value the voluntary implementation of on-site, structural best management practices as part of a comprehensive stormwater runoff control policy. The focus will be on estimating the minimum monetary value the landowner would judge necessary to dedicate a portion of their property to implementation of best management practices that reduce runoff.

This data collection is motivated by the current stormwater-related problems within the United States in general, and in the greater Cincinnati metropolitan area in particular. Urban and suburban development changes the natural landscape making it more impervious to rain and snow. The resulting stormwater runoff is one of the most significant contributors to water quality degradation in the United States through larger and more frequent floods, increased erosion of stream beds and banks, disruption of natural habitat in receiving waters, and increased pollution loadings of metals, toxics, and nutrients. Precipitation falls over large geographic areas, and the resulting runoff will flow across a myriad of parcels with varying land uses, which are, in turn, under the control of numerous property owners. Perhaps in reaction to these conditions, stormwater control policies have concentrated on solutions that build centralized detention BMPs to temporarily hold excess runoff within the storm sewer system. An alternative, decentralized approach to stormwater control would be to distribute BMPs at terrestrial locations throughout the watershed, thus reducing runoff before it reaches the sewer system. This approach provides both hydrological benefits of reducing degradation of receiving waters, which would likely continue due to discharges from a centralized sewer conveyance system, as well as potential cost-savings in terms of meeting water quality standards, habitat renewal, and other environmental goals.

Although the installation, operation, and maintenance costs for best management practices are relatively well known, these are only a portion of the total costs of BMP implementation. Full consideration of costs would include consideration of the opportunity costs (e.g., the costs to the landowner of partial loss of use of property). EPA anticipates that such opportunity costs associated with BMP implementation would be borne by individual landowners, and that such costs may comprise the largest component of total costs associated with runoff abatement. To better understand the economic potential of implementation of a voluntary and decentralized runoff control program, EPA proposes to assess the opportunity costs associated with implementation of best management practices to abate the adverse effects of storm water runoff. The proposed survey would provide a means of gathering this information. It also would ask 10-12 non-invasive demographic questions, required for the proper statistical analysis of the data.

The survey would be conducted using six (6) groups of ten (10) residential landowners from the Shepherd Creek watershed. Participation would be completely voluntary. Residents who wish to participate in the study would be identified and recruited through a liaison from the Hamilton County Soil and Water Conservation District, who is familiar with the community. The survey would be conducted using a computer simulated nonuniform-price, sequential auction for the procurement of best management practices. Participants would be presented with a selection of best management practices that should be feasible for use on their actual parcel. Information regarding how each BMP should perform on their specific parcel, as well as the installation, operation, and maintenance costs, would be provided to the landowner. In the computer-simulated auction, participants who wish to implement BMPs would submit bids that consist of the size and type of the BMPs and the minimum compensation that the participant landowner would accept. The goal of the simulation would be to elicit the minimum compensation levels that individual landowners will accept in exchange for implementation of the best management practices. This information would then be used to estimate the minimum compensation that would likely be necessary to achieve control stormwater runoff through such on-site, structural best management practices.

Data gathered would be stored on U.S. Environmental Protection Agency (EPA) computer files that would protect the confidentiality of individual participants. Summary results would be made available to the public. An agency may not conduct or sponsor, and a person is not required to respond to, a collection of information unless it displays a currently valid OMB control number. The OMB control numbers for EPA's regulations in 40 CFR are listed in 40 CFR part 9.

The EPA solicits comments in this proposal to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The total number of expected participants would be 60. The cost to participants would be their time, at an estimate total of 120 hours collectively. EPA would compensate participants for their participation at a minimum rate of $24.95 per hour. An additional bonus amount of compensation would vary with their performance in the auction. This is a commonly accepted practice used in experimental economics, in order to overcome hypothetical survey bias.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: July 5, 2005.
Sally C. Gutierrez,
Acting Director, National Risk Management Research Laboratory.

[FR Doc. 05-13783 Filed 7-12-05; 8:45 am]

BILLING CODE 6560-50-P